NATIONAL AERONAUTICS AND SPACE ADMINISTRATION

[Notice: 15-113]

Notice of Information Collection

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)). This is a request to reinstate OMB control number 2700-0092 with changes to include all NASA financial assistance awards, not just awards to commercial firms.

DATES: Consideration will be given to all comments received within 60 days from the date of this publication.

ADDRESSES: Interested persons are invited to submit written comments on the proposed information collection to Ms. Frances Teel, NASA PRA Clearance Officer, NASA Headquarters, 300 E Street SW., Mail Code JF0000, Washington, DC 20546 or frances.c.teel@nasa.gov.

FOR FURTHER INFORMATION CONTACT: Requests for additional information or copies of the information collection instrument(s) and instructions should be directed to Ms. Frances Teel, NASA PRA Clearance Officer, NASA Headquarters, 300 E Street SW., Mail Code JF0000, Washington, DC 20546 or frances.c.teel@nasa.gov.

SUPPLEMENTARY INFORMATION:

I. Abstract

This is a request to reinstate OMB control number 2700-0092 with changes. This collection is required to ensure proper accounting of Federal funds and property provided under finanical assistance awards (grants and cooperative agreements). Reporting and recordkeeping are prescribed at 2 CFR part 1800 for awards issued to non-profits, institutions of higher educations, government, and commercial firms when cost sharing is not required and 14 CFR part 1274 for awards issued to commercial firms when cost sharing is required. This information collection was formally titled Cooperative Agreements with Commercial Firms.

II. Method of Collection

Proposals are filed through the NASA Solicitation and Proposal Integrated Review and Evaluation System (NSPIRES) or grants.gov. The use of these systems reduces the need for proposers to submit multiply copies to the agency. It further allows them to submit multiple proposals to different funding announcements without registering each time. Electronic funds transfer is used for payment under Treasury guidance, for commercial firms and through the HHS Payment Management System for other recipients. In addition, NASA encourages the use of computer technology and is participating in Federal efforts to extend the use of information technology to more Government processes.

Basis of Estimate. Approximately 6,500 NASA financial assistance awards are open at any one time. It is estimated that out of the 7,100 proposals received each year, NASA awards approximately 1,600 new awards. The period of performance for each financial assistance award is usually three to five years. NASA had approximately 120 awards with commercial firms. Commercial firms submit quarterly payment requests directly to NASA, while other recipients submit Financial Reports (SF 425) on a quarterly bases to the HHS Payment Management System. Performance, Property, and Patent Reports are filed annually. Historical records indicate that, on average, 1,625 changes are submitted annually. The total number of respondents is based on the average number of proposals that are received each year and the average number of active grants that are managed each year. The total number of hours spent on each task was estimated through historical records and experience of former recipients. Using past calculations, the total cost was estimated using the on the average salary (wages and benefits) for a GS-12 step 5.

III. Data

Title: Financial Assistant Awards/Grants and Cooperative Agreements.

OMB Control Number: 2700-0092.

Type of review: Reinstatement with Change of a Previously Approved Information Collection.

Affected Public: Non-profits, institutions of higher educations, government, and commercial firms.

Estimated Number of Respondents: 13,600.

Estimated Total Annual Burden Hours: 691,641.

Estimated Total Annual Cost to Respondents: $20,674,712.

IV. Request for Comments

Comments are invited on (1) whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Frances Teel,
NASA PRA Clearance Officer.

[FR Doc. 2015-30215 Filed 11-27-15; 8:45 am]

BILLING CODE 7510-13-P